DEPARTMENT OF TRANSPORTATION

Federal Aviation Administration

14 CFR Part 39

[Docket No. FAA-2021-0334; Project Identifier MCAI-2020-01662-T; Amendment 39-21686; AD 2017-17-03]

RIN 2120-AA64

Airworthiness Directives; Airbus SAS Airplanes

AGENCY: Federal Aviation Administration (FAA), Department of Transportation (DOT).

ACTION: Final rule.

SUMMARY: The FAA is superseding Airworthiness Directive (AD) 2017-12-13, which applied to certain Airbus SAS Model A320-212, -214, -232, and -233 airplanes. AD 2017-12-13 required repetitive low frequency eddy current inspections or repetitive high frequency eddy current inspections of the pocket radius at certain areas of the fuselage frame, and repair if necessary. This AD requires new repetitive inspections at the left- (LH) and right-hand (RH) sides of the fuselage skin at certain frames for any cracking, and repair if necessary, as specified in a European Union Aviation Safety Agency (EASA) AD, which is incorporated by reference. This AD was prompted by a report of a crack found during an inspection of the pocket radius of the fuselage frame, and a determination that similar cracks may develop in nearby areas of the fuselage frame and that additional airplanes are subject to the unsafe condition. The FAA is issuing this AD to address the unsafe condition on these products.

DATES: This AD is effective October 5, 2021.

The Director of the Federal Register approved the incorporation by reference of a certain publication listed in this AD as of October 5, 2021.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2021-0334.

Examining the AD Docket

You may examine the AD docket on the internet at https://www.regulations.gov by searching for and locating Docket No. FAA-2021-0334; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION:

Background

EASA, which is the Technical Agent for the Member States of the European Union, has issued EASA AD 2020-0280, dated December 14, 2020 (EASA AD 2020-0280) (also referred to as the Mandatory Continuing Airworthiness Information, or the MCAI), to correct an unsafe condition for certain Airbus SAS Model A318-111, -112 and -122 airplanes; Model A319-111, -112, -113, -114, -115, -131, -132, and -133 airplanes; and Model A320-211, -212, -214, -231, -232, and -233 airplanes. EASA AD 2020-0280 supersedes EASA AD 2014-0278, dated December 19, 2014 (which corresponds to FAA AD 2017-12-13, Amendment 39-18928 (82 FR 27983, June 20, 2017) (AD 2017-12-13)).

The FAA issued a notice of proposed rulemaking (NPRM) to amend 14 CFR part 39 to supersede AD 2017-12-13. AD 2017-12-13 applied to certain Airbus SAS Model A320-212, -214, -232, and -233 airplanes. The NPRM published in the Federal Register on April 22, 2021 (86 FR 21228). The NPRM was prompted by a report of a crack found during an inspection of the pocket radius of the fuselage frame, and a determination that similar cracks may develop in nearby areas of the fuselage frame and that additional airplanes are subject to the unsafe condition. The NPRM proposed to require new repetitive inspections at the LH and RH sides of the fuselage skin at certain frames for any cracking, and repair if necessary, as specified in EASA AD 2020-0280.

The FAA is issuing this AD to address cracking of the pocket radius, which could lead to in-flight decompression of the airplane and possible injury to the passengers. See the MCAI for additional background information.

Comments

The FAA gave the public the opportunity to participate in developing this final rule. The following presents the comments received on the NPRM and the FAA's response to each comment.

Support for the NPRM

United Airlines indicated its support for the NPRM.

Request To Use a Certain Approval Forms

Delta Air Lines (DAL) requested that paragraph (h)(3) of the proposed AD reference both the Repair and Design Approval Form (RDAF) and the Airbus Repair Design Approval Sheet (RDAS). DAL stated that Airbus has entered into service the RDAF which supersedes the RDAS. DAL commented that if the proposed AD does not reflect this change, operators may be required to obtain an alternative method of compliance (AMOC) in order to use the RDAF to comply with the requirements specified in paragraph (h)(3) of the proposed AD.

The FAA disagrees with the commenter's request. The exception in paragraph (h)(3) removes any need to reference the RDAS or the RDAF. Instead, the specific reference to a specific repair instructions document is replaced with repair instructions approved, and within the compliance time specified in the repair approval, using a method approved by the Manager, Large Aircraft Section, International Validation Branch, FAA; or EASA; or Airbus SAS's EASA Design Organization Approval (DOA). The RDAS and the RDAF are within the provision to use a method approved by Airbus SAS's EASA DOA. The FAA has not changed this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2020-0280 describes procedures for doing repetitive external general visual inspections or special detailed inspections (i.e., phased array ultrasonic technology inspections of the external skin, or detailed inspections for primer/paint cracks and high frequency eddy current inspections of the internal skin) at the LH and RH sides of the fuselage skin, above stringer 6 from FR35 to FR47, for any cracking, and repair if necessary. This material is reasonably available because the interested parties have access to it through their normal course of business or by the means identified in the ADDRESSES section.

Costs of Compliance

The FAA estimates that this AD affects 439 airplanes of U.S. registry. The FAA estimates the following costs to comply with this AD:

Estimated Costs for Required Actions
Action | Labor cost | Parts cost | Cost per product | Cost on U.S. operators
Retained actions from AD 2017-12-13 | 3 work-hours × $85 per hour = $255 | $0 | $255 | $111,945.
Repetitive inspections (new actions) | Up to 30 work-hours × $85 per hour = Up to $2,550 | 0 | Up to $2,550 | Up to $1,119,450.

The FAA has received no definitive data on which to base the cost estimates for the repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-12-13, Amendment 39-18928 (82 FR 27983, June 20, 2017); and

b. Adding the following new AD:

2017-17-03 Airbus SAS: Amendment 39-21686; Docket No. FAA-2021-0334; Project Identifier MCAI-2020-01662-T.

(a) Effective Date

This airworthiness directive (AD) is effective October 5, 2021.

(b) Affected ADs

This AD replaces AD 2017-12-13, Amendment 39-18928 (82 FR 27983, June 20, 2017).

(c) Applicability

This AD applies to Airbus SAS airplanes specified in paragraphs (c)(1) through (3) of this AD, certificated in any category, as identified in European Union Aviation Safety Agency (EASA) AD 2020-0280, dated December 14, 2020 (EASA AD 2020-0280).

(1) Model A318-111, -112 and -122 airplanes.

(2) Model A319-111, -112, -113, -114, -115, -131, -132, and -133 airplanes.

(3) Model A320-211, -212, -214, -231, -232, and -233 airplanes.

(d) Subject

Air Transport Association (ATA) of America Code 53, Fuselage.

(e) Reason

This AD was prompted by a report of a crack found during an inspection of the pocket radius of the fuselage frame, and a determination that similar cracks may develop in nearby areas of the fuselage frame and that additional airplanes are subject to the unsafe condition. The FAA is issuing this AD to address cracking of the pocket radius, which could lead to in-flight decompression of the airplane and possible injury to the passengers.

(f) Compliance

Comply with this AD within the compliance times specified, unless already done.

(g) Requirements

Except as specified in paragraph (h) of this AD: Comply with all required actions and compliance times specified in, and in accordance with, EASA AD 2020-0280.

(h) Exceptions to EASA AD 2020-0280

(1) Where EASA AD 2020-0280 refers to its effective date, this AD requires using the effective date of this AD.

(2) Where paragraph (9) of EASA AD 2020-0280 specifies if any crack is found during any inspection to “contact Airbus for approved repair instructions and accomplish those instructions accordingly,” this AD requires if any cracking is found, the cracking must be repaired before further flight using a method approved by the Manager, Large Aircraft Section, International Validation Branch, FAA; or EASA; or Airbus SAS's EASA Design Organization Approval (DOA). If approved by the DOA, the approval must include the DOA-authorized signature.

(3) Where paragraph (10) of EASA AD 2020-0280 specifies credit for actions “in accordance with the instructions of an Airbus Repair Design Approval Sheet (RDAS), [and to] accomplish the next inspection of each repaired area in accordance with the instructions of, and within the compliance time as specified in, the applicable RDAS,” this AD requires using “in accordance with repair instructions approved, and within the compliance time specified in the repair approval, using a method approved by the Manager, Large Aircraft Section, International Validation Branch, FAA; or EASA; or Airbus SAS's EASA DOA. If approved by the DOA, the approval must include the DOA-authorized signature.”

(4) Where paragraph (11) of EASA AD 2020-0280 specifies terminating actions apply only if specified “in the Airbus RDAS instructions for a repaired aeroplane,” this AD requires using “in repair instructions approved using a method approved by the Manager, Large Aircraft Section, International Validation Branch, FAA; or EASA; or Airbus SAS's EASA DOA. If approved by the DOA, the approval must include the DOA-authorized signature.”

(5) The “Remarks” section of EASA AD 2020-0280 does not apply to this AD.

(i) No Reporting Requirement

Although the service information referenced in EASA AD 2020-0280 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA DOA. If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, Large Aircraft Section, International Validation Branch, FAA, 2200 South 216th St., Des Moines, WA 98198; telephone and fax 206-231-3223; email Sanjay.Ralhan@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0280, dated December 14, 2020.

(ii) [Reserved]

(3) For EASA AD 2020-0280, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2021-0334.

(5) You may view this material that is incorporated by reference at the National Archives and Records Administration (NARA). For information on the availability of this material at NARA, email fr.inspection@nara.gov, or go to: https://www.archives.gov/federal-register/cfr/ibr-locations.html.

Issued on August 4, 2021.
Lance T. Gant,
Director, Compliance & Airworthiness Division, Aircraft Certification Service.

[FR Doc. 2021-18702 Filed 8-30-21; 8:45 am]

BILLING CODE 4910-13-P